DEPARTMENT OF THE INTERIOR

Bureau of Reclamation

[RR03042000, 25XR0680A1, RX.18786000.1000000; OMB Control Number 1006-0015]

Agency Information Collection Activities; Diversions, Return Flow, and Consumptive Use of Colorado River Water in the Lower Colorado River Basin

AGENCY: Bureau of Reclamation, Interior.

ACTION: Notice of information collection; request for comment.

SUMMARY: In accordance with the Paperwork Reduction Act of 1995, we, the Bureau of Reclamation (Reclamation), are proposing to renew and revise an information collection.

DATES: Interested persons are invited to submit comments on or before February 13, 2026.

ADDRESSES: Send your comments on this information collection request (ICR) by mail to Kerim Dickson, Team Lead, Water Accounting and Verification Group, LCB-4210, Boulder Canyon Operations Office, Interior Region 8: Lower Colorado Basin, Bureau of Reclamation, P.O. Box 61470, Boulder City, NV 89006-1470; or by email to kdickson@usbr.gov with a courtesy copy to bor-sha-bcooadmin@usbr.gov. Please reference OMB Control Number 1006-0015 in the subject line of your comments.

FOR FURTHER INFORMATION CONTACT: Kerim Dickson by email at kdickson@usbr.gov, or by telephone at (725) 232-6443. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995 (PRA, 44 U.S.C. 3501 et seq.) and 5 CFR 1320.8(d)(1), all information collections require approval by the Office of Management and Budget (OMB). We may neither conduct nor sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Reclamation delivers Colorado River water to water users for diversion and beneficial consumptive use in the States of Arizona, California, and Nevada. The Consolidated Decree of the United States Supreme Court in the case of Arizona v. California, et al., entered March 27, 2006 (547 U.S. 150 (2006)), requires the Secretary of the Interior to prepare and maintain complete, detailed, and accurate records of diversions of water, return flow, and consumptive use and to make these records available at least annually.

The information collected ensures that a State or a water user within a State does not exceed its authorized use of Colorado River water. Water users are obligated by provisions in their water delivery contracts to provide Reclamation information on diversions and return flows. Reclamation determines the consumptive use by subtracting return flow from diversions or by other engineering means.

Revisions are being made to this information collection to eliminate Form LC-72B, “Fee for Diversions of Colorado River Water for Municipal, Industrial, and Domestic Uses in the State of [Enter State].” This form is no longer required. The form number of Form LC-72A, “Diversions of Colorado River Water and Return Flow for Municipal, Industrial, Domestic, and Irrigation Uses in the State of [Enter State],” will be revised to Form LC-72 as the elimination of Form LC-72B removes the need to differentiate between Form LC-72A and Form LC-72B.

Title of Collection: “Diversions, Return Flow, and Consumptive Use of Colorado River Water in the Lower Colorado River Basin.”

OMB Control Number: 1006-0015.

Form Number: LC-72, Custom Forms.

Type of Review: Revision and renewal of a currently approved collection.

Respondents/Affected Public: The respondents will include the Lower Basin States (Arizona, California, and Nevada), local and Tribal entities, water districts, and individuals that use Colorado River water.

Total Estimated Number of Annual Respondents: 84.

Total Estimated Number of Annual Responses: 491.

Estimated Completion Time per Response: See table.

Total Estimated Number of Annual Burden Hours: 103 hours.

Respondent's Obligation: Required to obtain or retain a benefit.

Frequency of Collection: Monthly, annually, or otherwise as stipulated by the water user's Colorado River water delivery contract with the Secretary of the Interior.

Total Estimated Annual Non-hour Burden Cost: None.

Frequency of data collection (monthly/annual) | Form No. | Number of respondents | Minutes/ response | Number responses/ respondent | Total responses/year | Total hours/year
Annual | LC-72 | 20 | 10 | 1 | 20 | 3
Monthly | Custom Forms | 37 | 12 | 12 | 444 | 89
Annual | Custom Forms | 27 | 25 | 1 | 27 | 11
Total |  | 84 |  |  | 491 | 103

An agency may not conduct or sponsor and a person is not required to respond to a collection of information unless it displays a currently valid OMB control number.

The authority for this action is the Paperwork Reduction Act of 1995 (44 U.S.C. 3501 et seq.).

Genevieve Johnson,
Acting Regional Director, Interior Region 8: Lower Colorado Basin, Bureau of Reclamation.

[FR Doc. 2025-22819 Filed 12-12-25; 8:45 am]

BILLING CODE 4332-90-P